DEPARTMENT OF TRANSPORTATION

National Highway Traffic Safety Administration

[Docket No. NHTSA-2017-0073; Notice 1]

FCA US LLC, Receipt of Petition for Decision of Inconsequential Noncompliance

AGENCY: National Highway Traffic Safety Administration (NHTSA), Department of Transportation (DOT).

ACTION: Receipt of petition.

SUMMARY: FCA US LLC (FCA US), (f/k/a Chrysler Group LLC) has determined that certain Mopar Service seat belt assemblies sold to FCA dealers as replacement equipment in certain model year (MY) 1992-2018 FCA US motor vehicles do not fully comply with Federal Motor Vehicle Safety Standard (FMVSS) No. 209, Seat Belt Assemblies. FCA US filed a noncompliance report dated July 25, 2017. FCA US also petitioned NHTSA on August 17, 2017, for a decision that the subject noncompliance is inconsequential as it relates to motor vehicle safety.

DATES: The closing date for comments on the petition is January 8, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: FCA US LLC (FCA US), (f/k/a Chrysler Group LLC) has determined that certain Mopar Service seat belt assemblies sold to FCA dealers as replacement equipment in certain model year (MY) 1992-2018 FCA US motor vehicles do not fully comply with paragraphs S4.1(k) and S4.1(l) of Federal Motor Vehicle Safety Standard (FMVSS) No. 209, Seat Belt Assemblies. FCA US filed a noncompliance report dated July 25, 2017, pursuant to 49 CFR part 573, Defect and Noncompliance Responsibility and Reports. FCA US also petitioned NHTSA on August 17, 2017, pursuant to 49 U.S.C. 30118(d) and 30120(h) and 49 CFR part 556, for an exemption from the notification and remedy requirements of 49 U.S.C. Chapter 301 on the basis that this noncompliance is inconsequential as it relates to motor vehicle safety.

This notice of receipt of FCA US petition is published under 49 U.S.C. 30118 and 30120 and does not represent any agency decision or other exercise of judgment concerning the merits of the petition.

II. Equipment and Vehicles Involved: Approximately 728,100 Mopar Service seat belt assemblies sold to FCA dealers as replacement equipment for use in the following FCA motor vehicles are potentially involved:

• 2010-2017 Ram 3500 Cab Chassis (“DD”)

• 2016-2017 Ram 3500 Cab Chassis (“DF”)

• 2010-2017 Ram 2500 (“DJ”)

• 2010-2017 Ram 4500/5500 Cab Chassis (“DP”)

• 2009-2017 Ram 1500 (“DS”)

• 2010-2017 Ram 3500 (“D2”)

• 2012-2017 Fiat 500 (“FF”)

• 2009-2017 Dodge Journey (“JC”)

• 2007-2017 Jeep Wrangler (“JK”)

• 2014-2017 Jeep Cherokee (“KL”)

• 2015-2017 Dodge Challenger (“LA”)

• 2012-2017 Chrysler 300 (“LX”)

• 2012-2017 Dodge Charger (“LD”)

• 2008-2017 Jeep Compass (“MK”)

• 2008-2017 Jeep Patriot (“MK”)

• 2012-2017 Dodge Dart (“PF”)

• 2015-2017 Chrysler 200 (“UF”)

• 2008-2017 Chrysler Town & Country (“RT”)

• 2008-2017 Dodge Grand Caravan (“RT”)

• 2017 Chrysler Pacifica (“RU”)

• 2011-2017 Dodge Durango (“WD”)

• 2011-2017 Jeep Grand Cherokee (“WK”)

• 2013-2017 Dodge SRT Viper (“ZD”)

• 2002-2008 Dodge Ram 1500 (“DR”)

• 2004-2010 Dodge Durango (“HB”)

• 2007-2010 Chrysler Aspen (“HG”)

• 2005-2012 Dodge Dakota (“ND”)

• 1994-2002 Dodge Ram 1500 (“BR”)

• 1993-2004 Dodge Intrepid (“LH”)

• 1993-2004 Chrysler Concorde (“LH”)

• 1993-2004 Chrysler 300M (“LH”)

• 1995-2005 Dodge Neon (“PL”)

• 2006-2012 Dodge Caliber (“PM”)

• 1997-2000 Plymouth Prowler (“PR”)

• 2001-2002 Chrysler Prowler (“PR”)

• 2001-2010 Chrysler PT Cruiser (“PT”)

• 1992-2002 Dodge Viper (“SR”)

• 2003-2010 Dodge Viper (“ZB”)

• 1993-1998 Jeep Grand Cherokee (“ZJ”)

• 2014-2018 Ram ProMaster (“VF”)

• 2015-2018 Ram ProMaster City (“VM”)

• 2015-2018 Jeep Renegade (“BU”)

• 2015-2017 Fiat 500x (“FB”)

• 2014-2017 Fiat 500L (“BF”)

• 2016-2017 Alfa Romeo Giulia (“GA”)

• 2015-2017 Alfa Romeo 4C (“4C”)

• 2017 Fiat 124 Spider (“BA”)

III. Noncompliance: FCA US explains that the noncompliance is that the Mopar Service Seat Belt assemblies sold to FCA US dealerships for use or for subsequent resale to dealership customers for the subject vehicles, were sold without the proper inclusion of the “I-Sheets” (i.e., “Installation instructions” and “Usage and maintenance instructions”), and therefore, do not meet all applicable requirements specified in paragraphs S4.1(k) and 4.1(l) of FMVSS No. 209.

IV. Rule Text: Paragraph S4.1(k) and S4.1(l) of FMVSS No. 209 states, in pertinent part:

S4 Requirements.

S4.1 . . .

(k) Installation instructions. A seat belt assembly, other than a seat belt assembly installed in a motor vehicle by an automobile manufacturer, shall be accompanied by an instruction sheet providing sufficient information for installing the assembly in a motor vehicle. The installation instructions shall state whether the assembly is for universal installation or for installation only in specifically stated motor vehicles, and shall include at least those items specified in SAE Recommended Practice J800c (1973) (incorporated by reference, see § 571.5). If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

(l) Usage and maintenance instructions. A seat belt assembly or retractor shall be accompanied by written instructions for the proper use of the assembly, stressing particularly the importance of wearing the assembly snugly and properly located on the body, and on the maintenance of the assembly and periodic inspection of all components. The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

V. Summary of FCA US's Petition: As background, FCA US stated that the packaging for the Mopar Service Seat Belts should have been accompanied by the I-Sheets, but there was insufficient information to confirm that the I-Sheets, in fact, accompanied the affected products that were sent to FCA US dealers.

FCA US described the subject noncompliance and stated its belief that the noncompliance is inconsequential as it relates to motor vehicle safety.

In support of its petition, FCA US submitted the following reasoning:

FCA US understands that S4.1 concerns, among other things, the threading of webbing and location and drilling of anchorage holes. Moreover, S4.l(k) is specifically aimed at preventing the mismatch of a seat belt assembly in the wrong model vehicle or the wrong seating position and preventing improper installation of a seat belt at the correct position. These provisions were once correctly aimed at addressing the concern of aftermarket, universal seatbelt assemblies being added into vehicles that were not originally equipped with seatbelt assemblies. It has been many decades since vehicles without seatbelt assemblies have been sold in the United States.

As NHTSA has noted many times, the end-user's reliance on packaging literature for proper part selection, part installation and seatbelt use is now highly unlikely. This is particularly true for the subject seat belt assemblies, for the following reasons:

• Mopar Service Seat Belt assemblies are only sold in FCA US authorized dealerships and used for service within the dealership and for sale to dealer customers. These assemblies are not sold to aftermarket auto parts distributors or retail outlets.

• The Mopar Service Seat Belt assemblies are clearly identified in the FCA US part system for very specific make, model and model year vehicles and specific seating positions through DealerCONNECT, the web-based parts ordering system used between FCA US and its dealers. In order to purchase these parts, the buyer would need to supply either the part assembly number or make, model and model year and seating position of vehicle. In either case, only the proper assembly will be sold to the end user.

• The proper installation of all Mopar Service Seat Belt assemblies are clearly described in FCA US service manuals, which are also available on-line through DealerCONNECT and sold to the public through Mopar and FCA US brand Web sites. Installation of the seatbelt assembly is a complex process in the modern motor vehicle, unlike the vehicles in the past that the S4.1 provisions were intended to address.

• All Mopar Service Seat Belt assemblies are properly labeled with the correct service part number so that the correct parts are shipped to FCA US dealerships for use on specific make, model and model year vehicles and specific seating positions.

• The owner's manual for the FCA US vehicles at issue have always provided instruction about proper usage and maintenance information for seatbelts to the vehicle owner and operator. Therefore, incorrect usage and maintenance by the vehicle owner is highly unlikely. The seatbelt usage requirement language S4.1(l) is far exceeded in any of the vehicle owner's manuals implicated by the recall.

• In over 25 years and hundreds of thousands of parts sales, FCA US is not aware of a single field incident or consumer complaint arising from the absence of an I-Sheet during the sale of any Mopar Service Seat Belt assemblies.

There have been many instances of similar documentation omissions where the agency has granted inconsequential treatment. NHTSA has granted similar petitions for noncompliance with seat belt assembly installation and usage instruction standards. See Mitsubishi Motors North America, Inc. (77 FR 24762, April 25, 2012); Bentley Motors, Inc. (75 FR 35877, September 20, 2011); Hyundai Motor Company (73 FR 49238, March 2, 2009); Ford Motor Company (73 FR 11462, March 3, 2008); Mazda North America Operations (73 FR 11464, March 3, 2008); Ford Motor Company (73 FR 63051, October 22, 2008); and TRW, Inc. (58 FR 7171, February 4, 1993).

The most notable grant of inconsequential treatment, and one which is substantially similar to equipment recall T49 (NHTSA 17E-039), is Subaru of America, Inc. (65 FR 67471, November 9, 2000), where the agency made the following succinct observations:

There seems to be little need for the installation instructions with replacements for original equipment seat belts. The SAE J800c Recommended Practice incorporated in FMVSS No. 209 appears to have been written as a guide on how to install a seat belt where one does not exist. The Recommended Practice discusses such things as how to determine the correct location for anchorages, how to create adequate anchorages and how to properly attach webbing to the newly installed anchorages. These instructions do not apply to today's replacement market. Additionally, vehicle manufacturers provide service manuals on how seat belts should be replaced. NHTSA does not believe the “how to” instructions are necessary in this case. Next, we note that the subject seat belt assemblies were distributed without the required `usage and maintenance instructions' specified in FMVSS No. 209, S4.1(l), which requires that seat belt assemblies sold as replacement equipment have owner instructions on how to wear the seat belt and how to properly thread the webbing on seat belts where the webbing is not permanently attached. NHTSA believes that the proper usage is adequately described in the vehicle owner's manual. NHTSA does not believe that instructions about the proper threading of webbing is applicable to modern original equipment automobile seat belt systems. This second instruction sheet is either duplicated in the owner's manual or not applicable.

FCS US understands that while FMVSS No. 209 S4.1(k) and S4.1(l) may be somewhat antiquated, it is nevertheless required to fully comply with this safety standard. In this regard FCA US has made process changes to ensure that hard copies of the I-Sheets will be included with all Mopar Service Seat Belt assemblies shipped to its dealers. Moreover, FCA US has implemented changes in its part ordering process to ensure that all I-Sheets for Mopar Service Seat Belt assemblies affected by recall T49 (NHTSA 17E-039) have been uploaded to on-line resources (StarParts™ and DealerCONNECT) and directly linked to the specific Mopar Service Seat Belt part numbers. Going forward, this hard copy and on-line mating of the service parts and S4.1(k) and S4.1(l) instructions will ensure that the documentation requirement of FMVSS No. 209 will be met.

FCA US concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA US no longer controlled at the time it determined that the noncompliance existed. However, any decision on this petition does not relieve vehicle distributors and dealers of the prohibitions on the sale, offer for sale, or introduction or delivery for introduction into interstate commerce of the noncompliant vehicles under their control after FCA US notified them that the subject noncompliance existed.

Authority: 49 U.S.C. 30118, 30120: delegations of authority at 49 CFR 1.95 and 501.8.

Jeffrey M. Giuseppe,
Associate Administrator for Enforcement.

[FR Doc. 2017-26425 Filed 12-6-17; 8:45 am]

BILLING CODE 4910-59-P